GENERAL SERVICES ADMINISTRATION

41 CFR Part 102-77

[Notice-MA-2025-11; Docket No. 2025-0002; Sequence 9]

Federal Management Regulation; Art in Architecture; Planned Rescission

AGENCY: Office of Government-wide Policy (OGP), General Services Administration (GSA).

ACTION: Notification of upcoming rescission of FMR Case 2021-02.

SUMMARY: GSA plans to issue a final rule rescinding the Federal Management Regulation (FMR) Case 2021-02, “Art in Architecture,” published on February 2, 2022.

DATES: April 16, 2025.

ADDRESSES: Those interested can view FMR Case 2021-02 at https://www.regulations.gov/document/GSA-FMR-2021-0024-0001.

FOR FURTHER INFORMATION CONTACT: For clarification of content please contact Alexander Kurien, Office of Government-wide Policy, at (202) 208-7642, or by email at realpropertypolicy@gsa.gov. Please cite Notice for Rescission of FMR Case 2021-02.

SUPPLEMENTARY INFORMATION: GSA plans to rescind FMR Case 2021-02 (FR Doc. 2022-02158 (87 FR 5711, February 2, 2022)) in line with Executive Order (E.O.) 14148, Initial Rescissions of Harmful Executive Orders and Actions, and E.O. 14151, Ending Radical and Wasteful Government DEI Programs and Preferencing. GSA will amend the FMR to update certain provisions of the Art in Architecture program to remove diversity, equity, and inclusion (DEI) language, preferential treatments, and DEI data collections.

Larry Allen,
Associate Administrator, Office of Government-wide Policy.

[FR Doc. 2025-06280 Filed 4-15-25; 8:45 am]

BILLING CODE 6820-14-P